DEPARTMENT OF THE INTERIOR

Fish and Wildlife Service

50 CFR Part 17

[4500030115]

Endangered and Threatened Wildlife and Plants; 90-Day Findings on 10 Petitions

AGENCY: Fish and Wildlife Service, Interior.

ACTION: Notice of petition findings and initiation of status reviews.

SUMMARY: We, the U.S. Fish and Wildlife Service (Service), announce 90-day findings on 10 petitions to list, reclassify, or delist fish, wildlife, or plants under the Endangered Species Act of 1973, as amended (Act). Based on our review, we find that six petitions do not present substantial scientific or commercial information indicating that the petitioned actions may be warranted, and we are not initiating status reviews in response to these petitions. We refer to these as “not-substantial” petition findings. We also find that four petitions present substantial scientific or commercial information indicating that the petitioned actions may be warranted. Therefore, with the publication of this document, we announce that we plan to initiate a review of the status of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: When we conduct status reviews, we will consider all information that we have received. To ensure that we will have adequate time to consider submitted information during the status reviews, we request that we receive information no later than November 14, 2016. For information submitted electronically using the Federal eRulemaking Portal (see ADDRESSES, below), this would mean submitting the information electronically by 11:59 p.m. Eastern Time on that date.

ADDRESSES: Not-substantial petition findings: The not-substantial petition findings announced in this document are available on http://www.regulations.gov under the appropriate docket number (see Table 2, below), or on the Service's Web site at http://ecos.fws.gov. Supporting information in preparing these findings is available for public inspection, by appointment, during normal business hours by contacting the appropriate person, as specified under FOR FURTHER INFORMATION CONTACT. If you have new information concerning the status of, or threats to, any of these species or their habitats, please submit that information to the person listed under FOR FURTHER INFORMATION CONTACT.

Status reviews: You may submit information on species for which a status review is being initiated by one of the following methods:

(1) Electronically: Go to the Federal eRulemaking Portal: http://www.regulations.gov. In the Search box, enter the appropriate docket number (see Table 1, below). You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see Table 1, below]; U.S. Fish and Wildlife Service, MS: BPHC, 5275 Leesburg Pike; Falls Church, VA 22041-3803.

We request that you send information only by the methods described above. We will post all information received on http://www.regulations.gov. This generally means that we will post any personal information you provide us (see Request for Information for Status Reviews, below, for more details).

Table 1—List of “Substantial” Findings for Which a Status Review Is Being Initiated
Common name | Docket No. | URL to Docket in Regulations.gov
Florida scrub lizard | FWS-R4-ES-2015-0087 | https://www.regulations.gov/docket?D=FWS-R4-ES-2015-0087.
Joshua tree | FWS-R8-ES-2016-0088 | https://www.regulations.gov/docket?D=FWS-R8-ES-2016-0088.
Lassics lupine | FWS-R8-ES-2016-0089 | https://www.regulations.gov/docket?D=FWS-R8-ES-2016-0089.
Lesser Virgin Islands skink | FWS-R4-ES-2015-0098 | https://www.regulations.gov/docket?D=FWS-R4-ES-2015-0098.

Table 2—List of “Not Substantial” Findings
Common name | Docket No. | URL to Docket in Regulations.gov
Fourche Mountain salamander | FWS-R4-ES-2016-0096 | https://www.regulations.gov/docket?D=FWS-R4-ES-2016-0096.
American Pika | FWS-R6-ES-2016-0091 | https://www.regulations.gov/docket?D=FWS-R6-ES-2016-0091.
Ricord's rock iguana | FWS-HQ-ES-2016-0092 | https://www.regulations.gov/docket?D=FWS-HQ-ES-2016-0092.
Spectacled eider (delist) | FWS-R7-ES-2016-0041 | https://www.regulations.gov/docket?D=FWS-R7-ES-2016-0041.
Steller's eider (Alaska population) (delist) | FWS-R7-ES-2016-0093 | https://www.regulations.gov/docket?D=FWS-R7-ES-2016-0093.
Wyoming pocket gopher | FWS-R6-ES-2016-0094 | https://www.regulations.gov/docket?D=FWS-R6-ES-2016-0094.

FOR FURTHER INFORMATION CONTACT:

Common name | Contact person
Florida scrub lizard | Andreas Moshogianis, 404-679-7119; Andreas_Moshogianis@fws.gov.
Fourche Mountain salamander | Melvin Tobin, 501-513-4473; Melvin_Tobin@fws.gov.
Joshua tree | Mendel Stewart, 760-431-9440; Mendel_Stewart@fws.gov.
Lassics lupine | Bruce Bingham, 707-822-7201; Bruce_Bingham@fws.gov.
Lesser Virgin Islands skink | Andreas Moshogianis, 404-679-7119; Andreas_Moshogianis@fws.gov.
American Pika | Justin Shoemaker, 309-757-5800; Justin_Shoemaker@fws.gov.
Ricords rock iguana | Emily Weller, 703-358-2171; Emily_Weller@fws.gov.
Spectacled eider | Drew Crane, 907-786-3323; Drew_Crane@fws.gov.
Steller's eider (Alaska population) | Drew Crane, 907-786-3323; Drew_Crane@fws.gov.
Wyoming pocket gopher | Justin Shoemaker, 309-757-5800; Justin_Shoemaker@fws.gov.

If you use a telecommunications device for the deaf (TDD), please call the Federal Information Relay Service (FIRS) at 800-877-8339.

SUPPLEMENTARY INFORMATION:

Request for Information for Status Reviews

When we make a finding that a petition presents substantial information indicating that listing, reclassifying, or delisting a species may be warranted, we are required to review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns; and

(d) Historical and current population levels, and current and projected trends.

(2) The five factors that are the basis for making a listing, reclassifying, or delisting determination for a species under section 4(a) of the Act (16 U.S.C. 1531 et seq.), including past and ongoing conservation measures that could decrease the extent to which one or more of the factors affect the species, its habitat, or both. The five factors are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat, and the extent to which it affects the habitat or range of the species.

If, after the status review, we determine that listing is warranted, we will propose critical habitat (see definition in section 3(5)(A) of the Act) for domestic (U.S.) species under section 4 of the Act, to the maximum extent prudent and determinable at the time we propose to list the species. Therefore, we also request data and information for the species listed above in Table 1 (to be submitted as provided for in ADDRESSES) on:

(1) What may constitute “physical or biological features essential to the conservation of the species,” within the geographical range occupied by the species;

(2) Where these features are currently found;

(3) Whether any of these features may require special management considerations or protection;

(4) Specific areas outside the geographical area occupied by the species that are “essential for the conservation of the species”; and

(5) What, if any, critical habitat you think we should propose for designation if the species is proposed for listing, and why such habitat falls within the definition of “critical habitat” at section 3(5) of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in ADDRESSES. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our regulations in the Code of Federal Regulations (CFR) establish that the standard for substantial scientific or commercial information with regard to a 90-day petition finding is “that amount of information that would lead a reasonable person to believe that the measure proposed in the petition may be warranted” (50 CFR 424.14(b)). If we find that a petition presents substantial scientific or commercial information, we are required to promptly commence a review of the status of the species, and we will subsequently summarize the status review in our 12-month finding.

Section 4 of the Act (16 U.S.C. 1533) and its implementing regulations at 50 CFR 424 set forth the procedures for adding a species to, or removing a species from, the Federal Lists of Endangered and Threatened Wildlife and Plants. Under Sections 4(a), 3(6), and 3(20), a species qualifies as an “endangered species” if it is in danger of extinction throughout all or a significant portion of its range because of one or more of the five factors described in section 4(a)(1) of the Act (see Request for Information for Status Reviews, above); a species qualifies as a “threatened species” if it is likely to become an “endangered species” within the foreseeable future throughout all or a significant portion of its range because of one or more of those five factors.

In considering whether conditions described within one or more of the factors might constitute threats to a particular species, we must look beyond the exposure of the species to those conditions to evaluate whether the species may respond to the conditions in a way that causes actual impacts to the species. If there is exposure to a condition and the species responds negatively, the condition qualifies as a stressor and, during the subsequent status review, we attempt to determine how significant the stressor is. If the stressor is sufficiently significant that it drives, or contributes to, the risk of extinction of the species such that the species may warrant listing as endangered or threatened as those terms are defined in the Act, the stressor constitutes a threat to the species. Thus, the identification of conditions that could affect a species negatively may not be sufficient to compel a finding that the information in the petition and our files is substantial. The information must include evidence sufficient to suggest that these conditions may be operative threats that act on the species to a sufficient degree that the species may meet the definition of an endangered or threatened species under the Act.

Evaluation of a Petition To List the Florida Scrub Lizard as an Endangered or Threatened Species Under the Act

Species and Range

Florida scrub lizard (Sceloporus woodi): Florida.

Petition History

On July 11, 2012, we received a petition dated July 11, 2012, from the Center for Biological Diversity, requesting that 53 species of reptiles and amphibians, including the Florida scrub lizard, be listed under the Act as endangered or threatened species and critical habitat be designated under the Act. The petition clearly identified itself as such and included the requisite identification information for the petitioner, required at 50 CFR 424.14(a). This finding addresses the petition.

Finding

Based on our review of the petition and sources cited in the petition, we find that the petition presents substantial scientific or commercial information indicating that listing the Florida scrub lizard (Sceloporus woodi) may be warranted, based on Factors A and E. However, during our status review, we will thoroughly evaluate all potential threats to the species, including the extent to which any protections or other conservation efforts have reduced those threats. Thus, for this species, the Service requests any information relevant to whether the species falls within the definition of either “endangered species” under section 3(6) of the Act or “threatened species” under section 3(20) of the Act, including information on the five listing factors under section 4(a)(1) and any other factors identified in this finding (see Request for Information for Status Reviews, above).

The basis for our finding on this petition, and other information regarding our review of the petition, can be found as an appendix at http://www.regulations.gov under Docket No. FWS-R4-ES-2015-0087 under the Supporting Documents section.

Evaluation of a Petition To List the Fourche Mountain Salamander as an Endangered or Threatened Species Under the Act

Species and Range

Fourche Mountain salamander (Plethodon fourchensis): Arizona.

Petition History

On July 11, 2012, we received a petition dated July 11, 2012, from the Center for Biological Diversity requesting that 53 species of reptiles and amphibians, including the Fourche Mountain salamander, be listed under the Act as endangered or threatened species and critical habitat be designated under the Act. The petition clearly identified itself as such and included the requisite identification information for the petitioner, required at 50 CFR 424.14(a). This finding addresses the petition.

Finding

Based on our review of the petition and sources cited in the petition, we find that the petition does not present substantial scientific or commercial information indicating that the petitioned action may be warranted for the Fourche Mountain salamander (Plethodon fourchensis). The basis and scientific support for this finding can be found as an appendix at http://www.regulations.gov under Docket No. FWS-R4-ES-2016-0096 under the Supporting Documents section. Because the petition does not present substantial information indicating that listing the Fourche Mountain salamander may be warranted, we are not initiating a status review of this species in response to this petition. However, we ask that the public submit to us any new information that becomes available concerning the status of, or threats to, this species or its habitat at any time (see FOR FURTHER INFORMATION CONTACT).

Additional information regarding our review of the petition, can be found as an appendix at http://www.regulations.gov under Docket No. FWS-R4-ES-2016-0096 under the Supporting Documents section.

Evaluation of a Petition To List the Joshua Tree as an Endangered or Threatened Species Under the Act

Species and Range

Joshua tree (Yucca brevifolia): Arizona, California, Nevada, and Utah.

Petition History

On September 29, 2015, we received a petition dated September 28, 2015, from Taylor Jones (representing Wild Earth Guardians), requesting that Yucca brevifolia (Joshua tree)—either as a full species (Yucca brevifolia) or as two infraspecific taxa—be listed as threatened and, if applicable, critical habitat be designated under the Act. The petition clearly identified itself as such and included the requisite identification information for the petitioner, required at 50 CFR 424.14(a). On December 8, 2015, in a letter to the petitioner, we responded that we reviewed the information presented in the petition and did not find that an emergency listing under Section 4(b)(7) of the Act was necessary. This finding addresses the petition.

Finding

Based on our review of the petition and sources cited in the petition, we find that the petition presents substantial scientific or commercial information indicating that listing the Joshua tree (Yucca brevifolia) may be warranted, based on Factors A and E. However, during our status review, we will thoroughly evaluate all potential threats to the species, including the extent to which any protections or other conservation efforts have reduced those threats. Thus, for this species, the Service requests any information relevant to whether the species falls within the definition of either “endangered species” under section 3(6) of the Act or “threatened species” under section 3(20), including information on the five listing factors under section 4(a)(1) and any other factors identified in this finding (see Request for Information for Status Reviews, above).

The basis for our finding on this petition, and other information regarding our review of the petition, can be found as an appendix at http://www.regulations.gov under Docket No. FWS-R8-ES-2016-0088 under the Supporting Documents section.

Evaluation of a Petition To List Lassics Lupine as an Endangered or Threatened Species Under the Act

Species and Range

Lassics lupine (Lupinus constancei): California.

Petition History

On January 15, 2016, we received a petition, dated January 15, 2016, from David Imper, Sydney Carothers, the Center for Biological Diversity, and the California Native Plant Society, requesting that Lassics lupine (Lupinus constancei) be emergency listed as endangered and critical habitat designated for this species under the Act. The petition clearly identified itself as such and included the requisite identification information for the petitioner, required at 50 CFR 424.14(a). This finding addresses the petition. On March 29, 2016, we sent the petitioners a letter notifying them of receipt of the petition. Because the Act does not provide for petitions to emergency list, we treat petitions to emergency list as regular petitions to list under the Act. However, in evaluating petitions to list, we consider whether emergency listing under Section 4(b)(7) of the Act is necessary. As a result, our letter notifying petitioners of receipt of the petition also informed them that we did not find that emergency listing was necessary.

Finding

Based on our review of the petition and sources cited in the petition, we find that the petition presents substantial scientific or commercial information indicating that listing the Lassics lupine (Lupinus constancei) may be warranted, based on Factors A, C, and E. However, during our status review, we will thoroughly evaluate all potential threats to the species, including the extent to which any protections or other conservation efforts have reduced those threats. Thus, for this species, the Service requests any information relevant to whether the species falls within the definition of either “endangered species” under section 3(6) of the Act or “threatened species” under section 3(20), including information on the five listing factors under section 4(a)(1) and any other factors identified in this finding (see Request for Information for Status Reviews, above).

The basis for our finding on this petition, and other information regarding our review of the petition, can be found as an appendix at http://www.regulations.gov under Docket No. FWS-R8-ES-2016-0089 under the Supporting Documents section.

Evaluation of a Petition To List the Lesser Virgin Islands Skink as an Endangered or Threatened Species Under the Act

Species and Range

Lesser Virgin Islands skink (Spondylurus semitaeniatus): Virgin Islands.

Petition History

On February 11, 2014, we received a petition dated February 11, 2014, from the Center for Biological Diversity, requesting that the Culebra skink, Mona skink, Monito skink, lesser Virgin Islands skink, Virgin Islands bronze skink, Puerto Rican skink, greater Saint Croix skink, greater Virgin Islands skink, and lesser Saint Croix skink be listed as endangered and critical habitat be designated for these species under the Act. The petition clearly identified itself as such and included the requisite identification information for the petitioner, required at 50 CFR 424.14(a). We acknowledged receipt of this petition via email (from Doug Krofta to Collette Adkins Giese) on February 12, 2014. This finding addresses the lesser Virgin Islands skink. The Culebra skink, greater Saint Croix skink, Mona skink, Puerto Rican skink, Virgin Islands bronze skink, greater Virgin Islands skink, and lesser Saint Croix skink were addressed in a separate evaluation, which published in the Federal Register on January 12, 2016 (81 FR 1368). The Monito skink was addressed in a separate evaluation which published in the Federal Register on March 16, 2016 (81 FR 14058).

Finding

Based on our review of the petition and sources cited in the petition, we find that the petition presents substantial scientific or commercial information indicating that listing the lesser Virgin Islands skink (Spondylurus semitaeniatus) may be warranted, based on Factors C and D. However, during our status review, we will thoroughly evaluate all potential threats to the species, including the extent to which any protections or other conservation efforts have reduced those threats. Thus, for this species, the Service requests any information relevant to whether the species falls within the definition of either “endangered species” under section 3(6) of the Act or “threatened species” under section 3(20), including information on the five listing factors under section 4(a)(1) and any other factors identified in this finding (see Request for Information for Status Reviews, above).

The basis for our finding on this petition, and other information regarding our review of the petition, can be found as an appendix at http://www.regulations.gov under Docket No. FWS-R4-ES-2015-0098 under the Supporting Documents section.

Evaluation of a Petition To List the American Pika as an Endangered or Threatened Species Under the Act

Species and Range

Pika, American (Ochotona princeps): Colorado, Idaho, Montana, Nevada, Utah, Wyoming, Canada (British Columbia and Alberta).

Petition History

On April 21, 2016, we received a petition dated April 14, 2016, from Mr. Timothy Eng, requesting that the American pika (Ochotona princeps) be listed as endangered or threatened and critical habitat be designated for this species under the Act. The petition clearly identified itself as such and included the requisite identification information for the petitioner, required at 50 CFR 424.14(a). This finding addresses the petition.

Finding

Based on our review of the petition and sources cited in the petition, we find that the petition does not present substantial scientific or commercial information indicating that the petitioned action may be warranted for the American pika (Ochotona princeps). The basis and scientific support for this finding can be found as an appendix at http://www.regulations.gov under Docket No. FWS-R6-ES-2016-0091 under the Supporting Documents section. Because the petition does not present substantial information indicating that listing the American pika may be warranted, we are not initiating a status review of this species in response to this petition. However, we ask that the public submit to us any new information that becomes available concerning the status of, or threats to, the American pika or its habitat at any time (see FOR FURTHER INFORMATION CONTACT).

Additional information regarding our review of the petition, can be found as an appendix at http://www.regulations.gov under Docket No. FWS-R6-ES-2016-0091 under the Supporting Documents section.

Evaluation of a Petition To List Ricord's Rock Iguana as an Endangered or Threatened Species Under the Act

Species and Range

Ricord's rock iguana (Cyclura ricordii): Dominican Republic, Haiti.

Petition History

On March 17, 2016, we received a petition dated March 14, 2016, from Grupo Jaragua, International Iguana Foundation, International Reptile Conservation Foundation, and the Zoological Society of San Diego, requesting that Ricord's rock iguana (Cyclura ricordii) be listed as endangered or threatened under the Act. The petition clearly identified itself as such and included the requisite identification information for the petitioner, required at 50 CFR 424.14(a). This finding addresses the petition.

Finding

Based on our review of the petition and sources cited in the petition, we find that the petition does not present substantial scientific or commercial information indicating that the petitioned action may be warranted for the Ricord's rock iguana (Cyclura ricordii). The basis and scientific support for this finding can be found as an appendix at http://www.regulations.gov under Docket No. FWS-HQ-ES-2016-0092 under the Supporting Documents section. Because the petition does not present substantial information indicating that listing the Ricord's rock iguana may be warranted, we are not initiating a status review of this species in response to this petition. However, we ask that the public submit to us any new information that becomes available concerning the status of, or threats to, this species or its habitat at any time (see FOR FURTHER INFORMATION CONTACT).

Additional information regarding our review of the petition, can be found as an appendix at http://www.regulations.gov under Docket No. FWS-HQ-ES-2016-0092 under the Supporting Documents section.

Evaluation of a Petition To Delist the Spectacled Eider Under the Act

Species and Range

Spectacled eider (Somateria fischeri): Alaska.

Petition History

On March 30, 2016, we received a petition dated January 29, 2016, from Tim Langer, Ph.D., requesting that the spectacled eider and Alaska-breeding Steller's eider be delisted due to error in information under the Act. The petition clearly identified itself as such and included the requisite identification information for the petitioner, required at 50 CFR 424.14(a). This finding addresses the petition.

Finding

Based on our review of the petition and sources cited in the petition, we find that the petition does not present substantial scientific or commercial information indicating that the petitioned action may be warranted for the spectacled eider (Somateria fischeri). The basis and scientific support for this finding can be found as an appendix at http://www.regulations.gov under Docket No. FWS-R7-ES-2016-0041 under the Supporting Documents section. Because the petition does not present substantial information indicating that delisting the spectacled eider may be warranted, we are not initiating a status review of this species in response to this petition. However, we ask that the public submit to us any new information that becomes available concerning the status of, or threats to, this species or its habitat at any time (see FOR FURTHER INFORMATION CONTACT).

Additional information regarding our review of the petition, can be found as an appendix at http://www.regulations.gov under Docket No. FWS-R7-ES-2016-0041 under the Supporting Documents section.

Evaluation of a Petition To Delist the Steller's Eider Under the Act

Species and Range

Steller's eider (Polysticta stelleri) (Alaska Population): Alaska.

Petition History

On March 30, 2016, we received a petition dated January 29, 2016, from Tim Langer, Ph.D., requesting that the spectacled eider and Alaska-breeding Steller's eider be delisted due to error in information under the Act. The petition clearly identified itself as such and included the requisite identification information for the petitioner, required at 50 CFR 424.14(a). This finding addresses the petition.

Finding

Based on our review of the petition and sources cited in the petition, we find that the petition does not present substantial scientific or commercial information indicating that the petitioned action may be warranted for the Alaska-breeding Steller's eider (Polysticta stelleri). The basis and scientific support for this finding can be found as an appendix at http://www.regulations.gov under Docket No. FWS-R7-ES-2016-0093 under the Supporting Documents section. Because the petition does not present substantial information indicating that delisting the Steller's eider may be warranted, we are not initiating a status review of this species in response to this petition. However, we ask that the public submit to us any new information that becomes available concerning the status of, or threats to, this species or its habitat at any time (see FOR FURTHER INFORMATION CONTACT).

Additional information regarding our review of the petition, can be found as an appendix at http://www.regulations.gov under Docket No. FWS-R7-ES-2016-0093 under the Supporting Documents section.

Evaluation of a Petition To List the Wyoming Pocket Gopher as an Endangered or Threatened Species Under the Act

Species and Range

Wyoming pocket gopher (Thomomys clusius): Colorado and Wyoming.

Petition History

On April 15, 2016, we received a petition dated April 6, 2016, from WildEarth Guardians, requesting that Wyoming pocket gopher be listed as endangered and critical habitat be designated for this species under the Act. The petition clearly identified itself as such and included the requisite identification information for the petitioner, required at 50 CFR 424.14(a). This finding addresses the petition.

Finding

Based on our review of the petition, and sources cited in the petition, we find that the petition does not present substantial scientific or commercial information indicating that the petitioned action may be warranted for the Wyoming pocket gopher (Thomomys clusius). The basis and scientific support for this finding can be found as an appendix at http://www.regulations.gov under Docket No. FWS-R6-ES-2016-0094 under the Supporting Documents section. Because the petition does not present substantial information indicating that listing the Wyoming pocket gopher may be warranted, we are not initiating a status review of this species in response to this petition. However, we ask that the public submit to us any new information that becomes available concerning the status of, or threats to, the Wyoming pocket gopher or its habitat at any time (see FOR FURTHER INFORMATION CONTACT).

Additional information regarding our review of the petition, can be found as an appendix at http://www.regulations.gov under Docket No. FWS-R6-ES-2016-0094 under the Supporting Documents section.

Conclusion

On the basis of our evaluation of the information presented in the petitions under section 4(b)(3)(A) of the Act, we have determined that the petitions summarized above for the Fourche Mountain salamander, American pika, Ricord's rock iguana, spectacled eider, Alaska-breeding Steller's eider, and the Wyoming pocket gopher do not present substantial scientific or commercial information indicating that the requested actions may be warranted. Therefore, we are not initiating status reviews for these species.

We have determined that the petitions summarized above for the Florida scrub lizard, Joshua tree, Lassics lupine, and lesser Virgin Islands skink present substantial scientific or commercial information indicating that the requested actions may be warranted. Because we have found that these petitions present substantial information indicating that the petitioned actions may be warranted, we are initiating status reviews to determine whether these actions under the Act are warranted. At the conclusion of each status review, we will issue a finding, in accordance with section 4(b)(3)(B) of the Act, as to whether or not the Service finds that the petitioned action is warranted.

It is important to note that the standard for a 90-day finding differs from the Act's standard that applies to a status review to determine whether a petitioned action is warranted. In making a 90-day finding, we consider only the information in the petition and sources cited in the petition, and we evaluate merely whether that information constitutes “substantial information” indicating that the petitioned action “may be warranted.” In a 12-month finding, we must complete a thorough status review of the species and evaluate the “best scientific and commercial data available” to determine whether a petitioned action “is warranted.” Because the Act's standards for 90-day and 12-month findings are different, a “substantial” 90-day finding does not mean that the 12-month finding will result in a “warranted” finding.

References Cited

A complete list of references cited is available on the Internet at http://www.regulations.gov and upon request from the appropriate lead field offices (contact the person listed under FOR FURTHER INFORMATION CONTACT).

Authors

The primary authors of this notice are staff members of the Ecological Services Program, U.S. Fish and Wildlife Service.

Authority: The authority for these actions is the Endangered Species Act of 1973, as amended (16 U.S.C. 1531 et seq.).

Dated: September 1, 2016.
James W. Kurth,
Acting Director, U.S. Fish and Wildlife Service.

[FR Doc. 2016-22071 Filed 9-13-16; 8:45 am]

BILLING CODE 4333-15-P